INTERNATIONAL TRADE COMMISSION

[Investigation Nos. 337-TA-608 and 337-TA-612]

In the Matter of Certain Nitrile Gloves and in the Matter of Certain Nitrile Rubber Gloves; Notice of Commission Decision Not To Review an Initial Determination Granting Complainant's Motion To Amend the Complaint and Notice of Investigation

AGENCY: U.S. International Trade Commission.

ACTION: Notice.

SUMMARY: Notice is hereby given that the U.S. International Trade Commission has determined not to review an initial determination (“ID”) (Order No. 21) issued by the presiding administrative law judge (“ALJ”) granting complainant's motion to amend the complaint and notice of investigation.

FOR FURTHER INFORMATION CONTACT: Michelle Walters, Office of the General Counsel, U.S. International Trade Commission, 500 E Street, SW., Washington, DC 20436, telephone (202) 708-5468. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted Investigation No. 337-TA-608 on July 6, 2007, based on a complaint filed by Tillotson Corporation d.b.a. Best Manufacturing Company (“Tillotson”). The complaint alleges violations of section 337 of the Tariff Act of 1930 (19 U.S.C. 1337) in the importation into the United States, the sale for importation, and the sale within the United States after importation of certain nitrile gloves by reason of infringement of various claims in United States Patent No. Re. 35,616. The complaint named over thirty respondents. On September 19, 2007, the ALJ consolidated Investigation No. 337-TA-608 with Investigation No. 337-TA-612.

On September 16, 2007, Tillotson filed a motion to amend the complaint and notice of investigation to add fourteen additional respondents: Ansell (Thailand) Ltd., Ansell Healthcare Products, LLC, Ansell Protective Products Inc., Top Glove Sdn. Bhd., TG Medical (USA) Inc., Hartalega Sdn. Bhd., Pharmatex USA Inc., Perusahaan Getah Asas Sdn. Bhd., Kossan Gloves Inc. d.b.a. Sintex, PT Haloni Jane, Shamrock Manufacturing Company Inc., Smart Glove Corporation Sdn. Bhd., YTY Industry (Manjung) Sdn. Bhd., and Delta Medical Supply Group, Inc. d.b.a. The Delta Group. The Commission investigative attorney supported the motion. Respondent Ansell Ltd. opposed the motion with respect to Ansell (Thailand), because Ansell asserted that Ansell (Thailand) does not manufacture TNT Blue Disposable Nitrile gloves as asserted and that the Touch N Tuff Powder Free nitrile gloves that it does manufacture are not within the scope of this investigation.

On September 20, 2007, the ALJ granted Tillotson's motion, finding that, pursuant to Commission Rule 210.14(b)(1) (19 CFR 210.14(b)(1)), there was good cause to add the respondents because the first thirteen respondents are subsidiaries of named respondents and including these respondents will ease the discovery process. In addition, the ALJ found that Ansell (Thailand) should be a respondent, because the Touch N Tuff Powder Free nitrile gloves are within the scope of the investigation. Finally, the ALJ found that Tillotson only recently discovered that Delta Medical Supply Group is not related to the named respondent Delta Medical Systems. No petitions for review of this ID were filed.

Having examined the record of this investigation, the Commission has determined not to review the ALJ's ID.

The authority for the Commission's determination is contained in section 337 of the Tariff Act of 1930, as amended (19 U.S.C. 1337), and in § 210.42 of the Commission's Rules of Practice and Procedure (19 CFR 210.42).

Issued: October 11, 2007.
By order of the Commission.
William R. Bishop,
Secretary to the Commission.

[FR Doc. E7-20396 Filed 10-16-07; 8:45 am]

BILLING CODE 7020-02-P